FEDERAL COMMUNICATIONS COMMISSION

47 CFR Part 54

[WC Docket Nos. 11-42, 09-197 & 10-90; DA 15-1036]

Lifeline and Link Up Reform and Modernization; Telecommunications Carriers Eligible for Universal Service Support; Connect America Fund

AGENCY: Federal Communications Commission.

ACTION: Petition for reconsideration; reopening of comment periods.

SUMMARY: In this document, the Federal Communications Commission (Commission) reopens the comment periods for oppositions and replies to oppositions to CTIA—The Wireless Association (CTIA)'s Petition for Partial Reconsideration of the Commission's Order on Reconsideration requiring Eligible Telecommunications Carriers (ETCs) to retain documentation demonstrating subscriber eligibility for the Lifeline Program.

DATES: The comment periods for the petition for reconsideration published on September 2, 2015 (80 FR 53088), are reopened. Opposition Filing Deadline is October 8, 2015. Replies to Opposition Filing Deadline is October 19, 2015.

ADDRESSES: You may submit oppositions, identified by WC Docket Nos. 11-42, 09-197 or 10-90, by any of the following methods:

• Electronic Filers: Comments may be filed electronically using the Internet by accessing the ECFS: http://fjallfoss.fcc.gov/ecfs2/.

• People with Disabilities: Contact the FCC to request reasonable accommodations (accessible format documents, sign language interpreters, CART, etc.) by email: FCC504@fcc.gov or phone: 202-418-0530 or TTY: 202-418-0432.

FOR FURTHER INFORMATION CONTACT: Christopher Cook, Wireline Competition Bureau at (202) 418-7400 or TTY (202) 418-0484.

SUPPLEMENTARY INFORMATION: This is a synopsis of the Wireline Competition Bureau's document in WC Docket Nos. 11-42, 09-197 and 10-90; DA 15-1036, released September 16, 2015. The complete text of these documents are available for inspection and copying during normal business hours in the FCC Reference Information Center, Portals II, 445 12th Street SW., Room CY-A257, Washington, DC 20554 or at the following Internet address: https://www.fcc.gov/document/ctia-recon-petition-extension-order-pn.

1. On June 18, 2015, the Federal Communications Commission adopted an Order on Reconsideration (Order on Reconsideration) in which, among other matters, the Commission required eligible telecommunications carriers (ETCs) to retain documentation demonstrating subscriber eligibility for the Lifeline Program. On August 13, 2015, CTIA—The Wireless Association (CTIA) filed a Petition for Partial Reconsideration of the Commission's Order on Reconsideration.

2. On August 26, 2015, a Public Notice was issued announcing that any oppositions to the CTIA Petition must be filed within 15 days of public notice of the CTIA Petition in the Federal Register. Additionally, the Public Notice announced that any replies to oppositions to the CTIA Petition must be filed within 10 days after the time for filing oppositions has expired. On September 2, 2015, notice of the CTIA Petition was published in the Federal Register, which established a September 17, 2015 opposition filing deadline and September 28, 2015 reply to opposition filing deadline.

3. On September 9, 2015, the Center for Democracy & Technology, Free Press, New America Foundation's Open Technology Institute, and Public Knowledge (Requestors) jointly filed a motion to extend the established opposition filing deadline for the CTIA Petition by 30 days. In support of their motion, the Requestors point out that certain of the comments that were recently filed pursuant to the Commission's Second Further Notice of Proposed Rulemaking (Second FNPRM) in the above captioned proceeding specifically raise issues that are relevant to the CTIA Petition. The Requestors also argue that a 30-day extension is in the public interest because a number of reply comments may be filed on issues relevant to the CTIA Petition by the September 30th deadline. The Requestors also cite the Commission's recent IT-modernization efforts, which made some already-filed comments inaccessible to the public for several days, and intervening holidays as circumstances that help to justify an extension in this case.

4. The Commission does not routinely grant extensions of time. Here, however, the Requestors have pointed to a potential relationship between issues addressed in the CTIA Petition and certain of the comments, and potentially the reply comments, filed pursuant to the Second FNPRM on or before September 30. Furthermore, the Commission's major IT-modernization efforts, making some relevant documents unavailable, occurred during the fifteen days that parties would normally have to prepare oppositions. Taken together, these special circumstances present a sufficiently unique situation to justify a longer period for oppositions than is typical. We also are persuaded that granting an extension to the opposition-filing deadline so that oppositions are due after the September 30th deadline for reply comments on the Second FNPRM will facilitate more thorough and deliberate consideration of the issues raised in the CTIA Petition. We therefore waive the 15-day deadline established in section 1.429(f) and will allow oppositions to be filed by October 8. Replies to those oppositions must be filed by October 19.

5. Accordingly, it is ordered that, pursuant to Section 4(i) and 4(j) of the Communications Act of 1934, as amended, 47 U.S.C. 154(i), (j), and Sections 0.91, 0.291, 1.3, 1.46, 1.415, and 1.429 of the Commission's Rules, 47 CFR 0.91, 0.291, 1.3, 1.46, 1.415, 1.429, the motion of the Center for Democracy & Technology, Free Press, New America Foundation's Open Technology Institute, and Public Knowledge is granted to the extent indicated herein and the deadline to file oppositions in response to the Petition for Partial Reconsideration filed by CTIA—The Wireless Association is reopened and will close on October 8, 2015, and the deadline to file replies to oppositions is reopened and will close on October 19, 2015.

Federal Communications Commission.
Ryan B. Palmer,
Chief, Telecommunications Access Policy Division, Wireline Competition Bureau.

[FR Doc. 2015-25094 Filed 10-2-15; 8:45 am]

BILLING CODE 6712-01-P